DEPARTMENT OF TRANSPORTATION

National Highway Traffic Safety Administration

Denial of Motor Vehicle Defect Petition, DP03-002

AGENCY: National Highway Traffic Safety Administration (NHTSA), Department of Transportation.

ACTION: Denial of petition for a defect investigation.

SUMMARY: This notice sets forth the reasons for the denial of a petition submitted to NHTSA under 49 U.S.C. 30162, requesting that the agency investigate alleged steering column failures on model year (MY) 1987-1995 vehicles manufactured by DaimlerChrysler Corporation (DCC). The petition is identified as DP03-002.

FOR FURTHER INFORMATION CONTACT: Mr. Jonathan White, Office of Defects Investigation (ODI), NHTSA, 400 Seventh Street, SW., Washington, DC 20590. Telephone: (202) 366-5226.

SUPPLEMENTARY INFORMATION: Mr. Larry A. Sackey, an attorney with the Law Offices of Herbert Hafif in Claremont, CA, submitted a petition to NHTSA by letter dated April 18, 2003, requesting NHTSA to further investigate alleged “defective collapsible steering shaft systems” on all MY 1987-1995 and model vehicles manufactured by DCC, other than those previously investigated and subsequently recalled. NHTSA had previously opened investigations PE93-091, PE96-047, and RQ97-004 to investigate alleged steering column shaft separations on MY 1993 Jeep Grand Cherokee vehicles, MY 1994-1995 Dodge Ram Series trucks, and MY 1993-1995 Jeep Cherokee/1994-1995 Jeep Grand Cherokee vehicles, respectively. As a result of the PE investigations, DCC recalled 115,000 units of MY 1993 Grand Wagoneer and Grand Cherokee vehicles (NHTSA Recall 93V210) and 475,000 units of MY 1994-1995 Dodge Ram Series Trucks (NHTSA Recall 96V230) to remedy a defect that could allow the upper and the lower shafts of the collapsible steering column to separate from each other (alleged defect) resulting in a loss of steering control. The petitioner alleged that DCC issued the recalls when they were aware the same defect existed in other MY 1987-1995 DCC vehicles.

For analytical purposes, ODI has focused on the experience of MY 1993-1995 vehicles, other than those covered by the previous recalls, in part because 49 U.S.C. 30120(g) limits a manufacturer's obligation to provide a recall remedy without charge to vehicles less than 10 years old at the time of a defect determination. If the analysis of these vehicles had identified a potential problem, the scope could have been expanded in an investigation.

A review of ODI's database shows that there are only six complaints about the subject vehicles that appear to be related to the alleged defect. Table 1 shows the make, model, model year, and the receipt date of each of these complaints:

Table 1.—ODI Database Search Results for Steering Column Shaft Separation Complaints on the Subject Vehicles
Make | Model | Model year | Complaint date
Dodge | Dakota | 1993 | 6/95
Dodge | Ram | 1993 | 5/96
Jeep | Grand Cherokee | 1995 | 9/99
Jeep | Grand Cherokee | 1995 | 7/01
Jeep | Cherokee | 1994 | 4/95
Jeep | Cherokee | 1995 | 10/96

The number of reports is very low, considering the fact that these vehicles have on average 10 years of usage. The data also show that there is a lack of a defect trend and recent complaints.

Steering column complaints reported to ODI on the subject vehicles that do not appear to be related to the alleged defect are shown in Table 2. Most of these complaints alleged steering column vibration, looseness, noise, or binding; and a few identified no specific failure. ODI has not considered complaints of miscellaneous electrical malfunctions and crash-induced problems. The complaints for MY 1995 Dodge and Plymouth Neon vehicles are also not counted because the Neon's steering column is not designed to collapse during certain crashes. Instead, it has a coupler designed to separate during certain crashes to mitigate crash forces. NHTSA previously investigated these Neon vehicles (PE94-095, PE96-069, and EA97-009) for inadvertent steering column coupler separation, and they were recalled (Recall 97V169).

Table 2.—ODI Database Search Results for Steering Column Complaints on the Subject Vehicles Not Related to the Alleged Defect
Model platform | No. of complaints | Complaint date range
Cirrus/Stratus | 1 | 9/98
Concorde/Intrepid/LHS/New Yorker | 8 | 3/95 to 4/00
Caravan/Voyager | 8 | 4/95 to 5/01
Cherokee/Grand Cherokee | 6 | 10/95 to 2/00
Dakota | 6 | 2/95 to 6/97
Lebaron | 4 | 6/95 to 5/00
Shadow/Spirit/Sundance | 3 | 10/96 to 8/97

Even if we were to consider the data shown in Table 2, it does not reflect a failure trend for the subject vehicles as a whole or by individual models.

Considering the fact that there were over 5 million subject vehicles manufactured and that these vehicles are 10 years old on average, the number of alleged defects reported to ODI on the subject vehicles is extremely low.

In view of the foregoing, it is unlikely that NHTSA would issue an order for the notification and remedy of an alleged safety-related defect as defined by the petitioner in the subject vehicles at the conclusion of an investigation. Therefore, in view of the need to allocate and prioritize NHTSA's limited resources to best accomplish the agency's safety mission, the petition is denied.

Authority: 49 U.S.C. 30162(d); delegations of authority at CFR 1.50 and 501.8.

Issued on: June 23, 2003.
Kenneth N. Weinstein,
Associate Administrator for Enforcement.

[FR Doc. 03-17200 Filed 7-7-03; 8:45 am]

BILLING CODE 4910-59-P